DEPARTMENT OF THE INTERIOR

Fish and Wildlife Service

50 CFR Part 17

[Docket No. FWS-R6-ES-2024-0186; FXES1111090FEDR-256-FF09E21000]

RIN 1018-BI14

Endangered and Threatened Wildlife and Plants; Grizzly Bear Listing on the List of Endangered and Threatened Wildlife With a Revised Section 4(d) Rule; Extension of Comment Period

AGENCY: Fish and Wildlife Service, Interior.

ACTION: Proposed rule; extension of comment period.

SUMMARY: We, the U.S. Fish and Wildlife Service (Service or FWS), announce that we are extending the comment period on our January 15, 2025, proposed rule to revise the listing of the grizzly bear (Ursus arctos horribilis) in the lower-48 States under the Endangered Species Act of 1973, as amended (Act or ESA). We are extending the comment period for the proposed rule to give all interested parties adequate opportunity to comment. Comments previously submitted on the proposed rule need not be resubmitted as they are already incorporated into the public record for this rulemaking actions and will be fully considered in our development of the final rule.

DATES: Comment period: The comment period on the proposed rule that published January 15, 2025, at 90 FR 4234, is extended until May 16, 2025. Comments submitted electronically using the Federal eRulemaking Portal (see ADDRESSES, below) must be received by 11:59 p.m. eastern time on the closing date.

ADDRESSES:

Availability of documents: You may obtain copies of the proposed rule and associated documents on the internet at https://www.regulations.gov at Docket No. FWS-R6-ES-2024-0186.

Comment submission: You may submit comments by one of the following methods:

(1) Electronically: Go to the Federal eRulemaking Portal: https://www.regulations.gov. In the Search box, enter FWS-R6-ES-2024-0186, which is the docket number for this rulemaking. Then, click on the Search button. On the resulting page, in the panel on the left side of the screen, under the Document Type heading, check the Proposed Rule box to locate this document. You may submit a comment by clicking on “Comment.”

(2) By hard copy: Submit by U.S. mail to: Public Comments Processing, Attn: FWS-R6-ES-2024-0186, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Hilary Cooley, Grizzly Bear Recovery Coordinator, U.S. Fish and Wildlife Service, #356 Corbin, University of Montana, Missoula, MT 59812; telephone 406-243-4903. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under the authority of the Endangered Species Act of 1973, as amended (Act; 16 U.S.C. 1531 et seq.), we, the U.S. Fish and Wildlife Service, published a proposed rule on January 15, 2025, to revise the listing of the grizzly bear (Ursus arctos horribilis) in the lower-48 States with revised protective regulations under section 4(d) of the Act (90 FR 4234). The proposed rule opened a 60-day comment period, which ends on March 17, 2025. To give all interested parties an additional opportunity to comment on the proposed rule, we are extending the comment period for a period of 60 days. Please refer to the proposed rule for more information on our proposed action and the specific information we seek. Additional information about the proposed rule, including supplementary materials and the comments received, is available in Docket No. FWS-R6-ES-2024-0186 on https://www.regulations.gov.

Public Comments

If you already submitted comments or information on the January 15, 2025 (90 FR 4234), proposed rule, please do not resubmit them. Any such comments are incorporated as part of the public record of the rulemaking proceeding, and we will fully consider them in the preparation of our final determination.

Comments should be as specific as possible. Please include sufficient information with your submission (such as scientific journal articles or other publications) to allow us to verify any scientific or commercial information you include. Please note that submissions merely stating support for, or opposition to, the action under consideration without providing supporting information, although noted, will not be considered in making a determination, as section 4(b)(1)(A) of the Act directs that determinations as to whether any species is an endangered species or a threatened species must be made solely on the basis of the best scientific and commercial data available.

You may submit your comments and materials by one of the methods listed in ADDRESSES. We request that you send comments only by the methods described in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Paul Souza,
Regional Director, Region 8 Exercising the Delegated Authority of the Director U.S. Fish and Wildlife Service.

[FR Doc. 2025-04269 Filed 3-14-25; 8:45 am]

BILLING CODE 4333-15-P